DEPARTMENT OF TRANSPORTATION

Federal Aviation Administration

High Density Traffic Airports; Slot Allocation and Transfer Method

AGENCY: Federal Aviation Administration (FAA), DOT.

ACTION: Statement of policy.

SUMMARY: This action extends and modifies the temporary policy issued on November 11, 2000, regarding the minimum slot usage requirement for slots and slot exemptions at LaGuardia Airport for the winter season. This policy is extended through September 14, 2001. This extension coincides with the effective period of the AIR-21 slot exemption allocation as a result of the lottery held on December 4, 2000. Also, the FAA amends the policy to permit the temporary turn-in of AIR-21 slot exemptions for weekend frequencies only. The extension of this policy will continue to assist carriers in addressing operational issues at LaGuardia Airport during this period by allowing limited flexibility of the slot usage requirement.

EFFECTIVE DATES: Effective May 1, 2001.

FOR FURTHER INFORMATION CONTACT: Lorelei D. Peter, Office of the Chief Counsel, AGC-230, Federal Aviation Administration, 800 Independence Avenue, SW., Washington, DC 20591; telephone number 202-267-3073.

SUPPLEMENTARY INFORMATION

Background

On November 17, 2000, the FAA published in the Federal Register a statement of policy addressing the slot usage requirement at LaGuardia Airport given the current operating environment (65 FR 69601). This policy was necessary to address the level of delay that aircraft operating at LaGuardia were experiencing as a result of the increased number of operations pursuant to the “Wendell H. Ford Aviation Investment and Reform Act of the 21st Century” (“AIR 21”), enacted on April 5, 2000. As a result of AIR-21, air carriers meeting specified criteria could obtain new slot exemptions at New York's LaGuardia Airport (LaGuardia) and John F. Kennedy International Airport (JFK), Chicago's O'Hare International Airport (O'Hare) and Washington DC's Ronald Reagan Washington National Airport (National). Subsequent to this legislation, the Department of Transportation (Department) issued eight orders establishing procedures for the processing of various applications. The policy statement addressed all operations at LaGuardia, including those authorized under Order 2000-4-11 (La Guardia—Exemptions for air service to small and nonhub airports—limited to aircraft with a seating capacity of less than 71) and Order 2000-4-10 (LaGuardia—Exemptions for new entrant and limited incumbent air carriers).

As a result of the operational environment at LaGuardia, the FAA conducted a lottery of AIR-21 slot exemptions on December 4, 2000. Through this lottery, the FAA reallocated 159 exemption slots among the 13 participating carriers. (This is an increase of approximately 15 percent over pre-AIR-21 operations.) The slot exemptions reallocated by the lottery will remain in effect until September 15, 2001, when a permanent demand management policy for the airport will be developed with the participation of all interested parties and can be implemented. Consequently, the FAA believes that an extension to September 15, 2001, of the current usage policy at LaGuardia is warranted. The agency amends the current policy by permitting the temporary turn-in of AIR-21 exemption slots for weekend frequencies only. The FAA believes that the reduction in operations at the airport as a result of the lottery will reduce the level of delays experienced by all operators. An extension of this policy will continue to allow carriers to realistically schedule their operations through this temporary allocation period.

Statement of Policy

As a result of the additional operations and the impact on the operating environment at LaGuardia, the FAA extends the temporary policy concerning the slot usage requirement for operations at LaGuardia until September 15, 2001.

The FAA will permit carriers operating slots at LaGuardia to temporarily return to the FAA slots issued under the authority of 14 CFR part 93. The FAA modifies the current policy to permit the temporary turn-in of AIR-21 slot exemptions for weekend frequencies only. The agency believes that the reduction in operations as a result of the lottery supports this modification to the current policy. Carriers that plan to return slots or weekend slot exemptions must notify the FAA Slot Administration Office in advance and provide the slot withdrawal number, frequency and effective period of the return. Slots and slot exemptions returned to the FAA under this policy will not be allocated to any other carrier during the effective period and will revert automatically to the operator at the expiration of the period for which it was returned. Carriers must contact the FAA Slot Administration Office concerning the date and frequency of restart-up should dates change. A carrier returning weekend slot exemptions under this policy will not need to recertify under Order 2000-4-10 and Order 2000-4-11 provided that all other certified conditions remain valid.

The FAA will treat a slot or slot exemption as used if the flight was scheduled but canceled for operational reasons and the slot would not otherwise have been subject to withdrawal. In the use or lose reports submitted to the FAA, carriers should indicate that flight was scheduled and, if appropriate, was canceled due to operational reasons. Carriers may report a slot or slot exemption as operated only if the flight was in fact operated. The FAA advises carriers to retain records of such cancellations should the FAA request additional documentation regarding the reason for the cancellation.

This temporary policy on nonoperation or return of slots and weekend slot exemptions does not apply to the use or lose provisions for slots at other high density traffic airports unless the operator can provide clear and convincing evidence that a flight cancellation at that airport was directly related to the non-operation of a slot at LaGuardia, as described in the policy statement. This policy is not intended to provide blanket relief to any slot operator not meeting the minimum usage requirement due to reasons other than those discussed previously. It is also not intended to establish a basis for the FAA to routinely consider delays and traffic management programs as grounds for a usage waiver. Any waiver of the slot usage requirement at other high density airports for non-operation of flights at LaGuardia not covered by this policy will continue to be processed in accordance with 14 CFR 93.227.

Issued in Washington, DC, on February 14, 2001.
James W. Whitlow,
Deputy Chief Counsel.

[FR Doc. 01-4139 Filed 2-16-01; 8:45 am]

BILLING CODE 4910-13-M